NATIONAL AERONAUTICS AND SPACE ADMINISTRATION

[Notice: (18-071)]

Heliophysics Advisory Committee; Meeting

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Monday, October 22, 2018, 2:00 p.m.-4:00 p.m.; Tuesday, October 23, 2018, 1:00 p.m.-2:30 p.m., Eastern Time.

ADDRESSES: This meeting will take place telephonically and via WebEx. Any interested person must use a touch-tone phone to participate in this meeting. Any interested person may call the USA toll free number 1-888-809-8966, or toll number 1-210-234-8402, passcode 2100562 followed by the # sign to participate in this meeting by telephone on both days. The WebEx link is https://nasa.webex.com/. The meeting number for October 22 is 990 826 227 and the password is HPAC20181! (case sensitive). The meeting number for October 23 is 990 232 943 and the password is HPAC20181! (case sensitive).

FOR FURTHER INFORMATION CONTACT: Ms. KarShelia Henderson, Science Mission Directorate, NASA Headquarters, Washington, DC 20546, (202) 358-2355, fax (202) 358-2779, or khenderson@nasa.gov.

SUPPLEMENTARY INFORMATION: The agenda for the meeting includes the following topic:

• Heliophysics Program Annual Performance Review According to the Government Performance and Results Act Modernization Act.

It is imperative that the meeting be held on this date to accommodate the scheduling priorities of the key participants.

Patricia Rausch,
Advisory Committee Management Officer, National Aeronautics and Space Administration.

[FR Doc. 2018-21201 Filed 9-27-18; 8:45 am]

BILLING CODE 7510-13-P